DEPARTMENT OF LABOR

Employment and Training Administration

[TA-W-71,291]

Modine Manufacturing Company; Pemberville, OH; Notice of Revised Determination on Reconsideration

By application dated March 10, 2010 a petitioner requested administrative reconsideration of the Department's negative determination regarding the eligibility of workers and former workers of Modine Manufacturing Company, Pemberville, Ohio, to apply for Trade Adjustment Assistance (TAA). On April 1, 2010, the Department issued a Notice of Affirmative Determination Regarding Application for Reconsideration. The Department's Notice was published in the Federal Register on April 19, 2010 (75 FR 20382). Workers at the subject firm are engaged in employment related to the production of radiators and service parts.

During the reconsideration investigation, the Department obtained additional information from the subject firm that support a finding that workers of the subject firm meet the criteria as Suppliers for secondary worker certification.

The Department determined that the loss of business by the subject firm with firms that employed worker groups that are currently eligible to apply for TAA, with respect to radiators and service parts sold to the TAA-certified firms, contributed importantly to worker separations at the subject firm.

Conclusion

After careful review of the additional facts obtained during the reconsideration investigation, I determine that workers of Modine Manufacturing Company, Pemberville, Ohio, who are engaged in employment related to radiators and service parts, meet the worker group certification criteria under Section 222(c) of the Act, 19 U.S.C. 2272(c). In accordance with Section 223 of the Act, 19 U.S.C. 2273, I make the following certification:

“All workers of Modine Manufacturing Company, Pemberville, Ohio, who became totally or partially separated from employment on or after June 12, 2008, through two years from the date of this revised certification, and all workers in the group threatened with total or partial separation from employment on date of certification through two years from the date of certification, are eligible to apply for adjustment assistance under Chapter 2 of Title II of the Trade Act of 1974, as amended.”

Signed in Washington, DC, this 30th day of July 2010.
Del Min Amy Chen,
Certifying Officer, Division of Trade Adjustment Assistance.

[FR Doc. 2010-20026 Filed 8-12-10; 8:45 am]

BILLING CODE 4510-FN-P